DEPARTMENT OF COMMERCE

International Trade Administration

[C-533-890]

Certain Quartz Surface Products From India: Amended Preliminary Affirmative Countervailing Duty Determination, Preliminary Affirmative Critical Circumstances Determination, in Part, and Alignment of Final Determination With Final Antidumping Duty Determination

AGENCY: Enforcement and Compliance, International Trade Administration, Department of Commerce.

SUMMARY: The Department of Commerce (Commerce) is amending the preliminary affirmative countervailing duty determination on certain quartz surface products from India to correct significant ministerial errors.

DATES: Applicable November 20, 2019.

FOR FURTHER INFORMATION CONTACT: Stephanie Moore, AD/CVD Operations, Office III, Enforcement and Compliance, International Trade Administration, U.S. Department of Commerce, 1401 Constitution Avenue NW, Washington, DC 20230; telephone: (202) 482-3692.

SUPPLEMENTARY INFORMATION:

Background

In accordance with section 703(b) of the Tariff Act of 1930, as amended (the Act), and 19 CFR 351.205(b), on October 11, 2019, Commerce published its preliminary affirmative countervailing duty determination on certain quartz surface products from India.¹ On October 16, 2019, Cambria Company LLC (the petitioner) submitted comments alleging significant ministerial errors in our preliminary determination with respect to Pokarna Engineered Stone Limited (Pokarna).² No other party submitted ministerial error comments. However, as noted in the amended preliminary memorandum, interested parties submitted ministerial rebuttal comments, which we have not considered in addressing the petitioner's ministerial error allegations, consistent with 19 CFR 351.224(c)(3).³

¹ See Certain Quartz Surface Products from India: Preliminary Affirmative Countervailing Duty Determination, Preliminary Affirmative Critical Circumstances Determination, In Part, and Alignment of Final Determination with Final Antidumping Duty Determination, 84 FR 54838 (October 11, 2019) (Preliminary Determination).

² See Petitioner's Letter, “Quartz Surface Products from India: Ministerial Errors in the Preliminary Determination,” dated October 15, 2019 (Petitioner's Ministerial Errors).

³ See Memorandum, “Countervailing Duty Investigation of Certain Quartz Surface Products from India: Allegation of Ministerial Errors in the Preliminary Affirmative Determination,” dated concurrently with this notice (Amended Preliminary Determination Memo).

Period of Investigation

The period of investigation (POI) is April 1, 2018 through March 31, 2019.

Scope of the Investigation

The products covered by this investigation are quartz surface products from India. For a complete description of the scope of this investigation, see the Appendix to this notice.

Analysis of a Significant Ministerial Error Allegation

Commerce will analyze any comments received and, if appropriate, correct any significant ministerial error by amending the preliminary determination according to 19 CFR 351.224(e). A ministerial error is defined in 19 CFR 351.224(f) as “an error in addition, subtraction, or other arithmetic function, clerical error resulting from inaccurate copying, duplication, or the like, and any other similar type of unintentional error which the Secretary considers ministerial.” ⁴ A significant ministerial error is defined as a ministerial error, the correction of which, singly or in combination with other errors, would result in: (1) A change of at least five absolute percentage points in, but not less than 25 percent of, the countervailable subsidy rate calculated in the original preliminary determination; or (2) a difference between a countervailable subsidy rate of zero or de minimis and a countervailable subsidy rate greater than de minimis or vice versa.⁵

⁴ See section 735(e) of the Act.

⁵ See 19 CFR 351.224(g).

Amended Preliminary Determination

Pursuant to 19 CFR 351.224(e) and (g)(1), Commerce is amending the Preliminary Determination to reflect the correction of ministerial errors made in the calculation of the countervailing duty subsidy rate for Pokarna.⁶

⁶ See Amended Preliminary Determination Memo.

Commerce finds that the petitioner's claimed error is a significant ministerial error within the meaning of 19 CFR 351.224(g), because Pokarna's countervailing duty subsidy rate increased from 1.90 to 81.31 percent for the allotted land for less than adequate renumeration (LTAR) program. In addition, correction of a ministerial error for Pokarna Limited's export-oriented unit program increased the countervailing subsidy rate from 0.13 percent to 0.19 percent. As a result of the correction of these ministerial errors, which in combination exceed the specified threshold, i.e., a change of at least five absolute percentage points in, but not less than 25 percent of, the subsidy rate calculated in the original Preliminary Determination is significant. Accordingly, as part of this amended preliminary determination, Commerce will amend the estimated subsidy rate of 83.79 percent calculated for Pokarna. Further, in the Preliminary Determination, Commerce assigned Pokarna's rate as the rate for all other producers and exporters because the rate for Antique Marbonite, the other mandatory respondent was de minimis. Thus, Pokarna's amended estimated subsidy rate of 83.79 percent will be assigned as the rate for all other producers and exporters. Antique Marbonite's rate of 1.57 percent remains unchanged.

Amended Preliminary Determination

Company | Subsidy rate Ad Valorem (percent)
Antique Marbonite Private Limited, India (Antique Marbonite) ⁷ | * ⁸ 1.57
Pokarna Engineered Stone Limited (Pokarna) ⁹ | 83.79
All Others | 83.79
* De minimis. India is considered a developing country and has a de minimis rate of 2.0 percent.

⁷ Commerce preliminarily found the following companies to be cross-owned with Antique Marbonite Private Limited, India: Antique Granito Shareholders Trust (Antique Trust), Prism Johnson Limited (Prism Johnson), and Shivam Enterprises (Shivam). See Preliminary Determination, 84 FR at 54839.

⁸ This rate remains unchanged from the Preliminary Determination.

⁹ Commerce found the following company to be cross-owned with Pokarna: Pokarna Limited. See Preliminary Determination, 84 FR at 54839.

Amended Cash Deposits and Suspension of Liquidation

The collection of cash deposits and suspension of liquidation will be revised according to the rates calculated in this amended preliminary determination. Because Pokarna's amended rate and the consequent amended rate for all other producers and exporters result in increased cash deposits, these amended rates will be effective on the publication date of this amended preliminary determination. Because the subsidy rate for Antique Marbonite is de minimis, Commerce is directing CBP not to suspend liquidation of entries of the merchandise produced by Antique Marbonite and exported by Antique Marbonite, Antique Trust, Prism Johnson, or Shivam. However, entries of subject merchandise in any other producer/exporter combination, e.g., merchandise produced by a third party and exported by Antique Marbonite, Antique Trust, Prism Johnson, or Shivam, or produced by Antique Marbonite and exported by a third party, are subject to the cash deposit requirements at the all-others rate.

As Commerce preliminarily found that critical circumstances exist for imports of subject merchandise from all other producers and exporters, the amended rate for these entities will be effective on the publication date of this amended preliminary determination. Entities subject to critical circumstances in the Preliminary Determination (i.e., all other producers and exporters) will continue to be subject to a rate of 4.32 percent effective July 7, 2019, i.e., 90 days before the publication of the Preliminary Determination, until the effective date of this amended preliminary determination.

Disclosure

We intend to disclose the calculations performed to parties in this proceeding within five days after public announcement of the amended preliminary determination, in accordance with 19 CFR 351.224.

International Trade Commission Notification

In accordance with section 733(f) of the Act, we will notify the International Trade Commission of our amended preliminary determination.

Notification to Interested Parties

This amended preliminary determination is issued and published pursuant to sections 703(f) and 777(i) of the Act and 19 CFR 351.224(e).

Dated: November 13, 2019.
Jeffrey I. Kessler,
Assistant Secretary for Enforcement and Compliance.

Appendix

Scope of the Investigation

The merchandise covered by the investigation is certain quartz surface products. Quartz surface products consist of slabs and other surfaces created from a mixture of materials that includes predominately silica (e.g., quartz, quartz powder, cristobalite, glass powder) as well as a resin binder (e.g., an unsaturated polyester). The incorporation of other materials, including, but not limited to, pigments, cement, or other additives does not remove the merchandise from the scope of the investigation. However, the scope of the investigation only includes products where the silica content is greater than any other single material, by actual weight. Quartz surface products are typically sold as rectangular slabs with a total surface area of approximately 45 to 60 square feet and a nominal thickness of one, two, or three centimeters. However, the scope of this investigation includes surface products of all other sizes, thicknesses, and shapes. In addition to slabs, the scope of this investigation includes, but is not limited to, other surfaces such as countertops, backsplashes, vanity tops, bar tops, work tops, tabletops, flooring, wall facing, shower surrounds, fire place surrounds, mantels, and tiles. Certain quartz surface products are covered by the investigation whether polished or unpolished, cut or uncut, fabricated or not fabricated, cured or uncured, edged or not edged, finished or unfinished, thermoformed or not thermoformed, packaged or unpackaged, and regardless of the type of surface finish.

In addition, quartz surface products are covered by the investigation whether or not they are imported attached to, or in conjunction with, non-subject merchandise such as sinks, sink bowls, vanities, cabinets, and furniture. If quartz surface products are imported attached to, or in conjunction with, such non-subject merchandise, only the quartz surface product is covered by the scope.

Subject merchandise includes material matching the above description that has been finished, packaged, or otherwise fabricated in a third country, including by cutting, polishing, curing, edging, thermoforming, attaching to, or packaging with another product, or any other finishing, packaging, or fabrication that would not otherwise remove the merchandise from the scope of the investigation if performed in the country of manufacture of the quartz surface products.

The scope of the investigation does not cover quarried stone surface products, such as granite, marble, soapstone, or quartzite. Specifically excluded from the scope of the investigation are crushed glass surface products. Crushed glass surface products must meet each of the following criteria to qualify for this exclusion: (1) The crushed glass content is greater than any other single material, by actual weight; (2) there are pieces of crushed glass visible across the surface of the product; (3) at least some of the individual pieces of crushed glass that are visible across the surface are larger than 1 centimeter wide as measured at their widest cross-section (“Glass Pieces”); and (4) the distance between any single Glass Piece and the closest separate Glass Piece does not exceed three inches.

The products subject to the scope are currently classified in the Harmonized Tariff Schedule of the United States (HTSUS) under the following subheading: 6810.99.0010. Subject merchandise may also enter under subheadings 6810.11.0010, 6810.11.0070, 6810.19.1200, 6810.19.1400, 6810.19.5000, 6810.91.0000, 6810.99.0080, 6815.99.4070, 2506.10.0010, 2506.10.0050, 2506.20.0010, 2506.20.0080, and 7016.90.1050. The HTSUS subheadings set forth above are provided for convenience and U.S. Customs purposes only. The written description of the scope is dispositive.

[FR Doc. 2019-25042 Filed 11-19-19; 8:45 am]

BILLING CODE 3510-DS-P